DEPARTMENT OF COMMERCE

National Institute of Standards and Technology

Proposed Information Collection; Comment Request; Project 25 Compliance Assessment Program—Laboratory Application for Assessment and Recognition

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 2, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Dereck Orr, Program Manager for Public Safety Communications, NIST's Office of Law Enforcement Standards, Building 1, Room 2209, Boulder, CO 80305; 303-497-5400 (or via the Internet at dereck.orr@nist.gov).

SUPPLEMENTARY INFORMATION:

I. Abstract

The September 11 attacks and Hurricane Katrina made apparent the need for public safety radio systems to interoperate, regardless of who manufactured the equipment. In response, and per Congressional direction, the National Institute of Standards and Technology (NIST) and the Department of Homeland Security (DHS) developed the Project 25 Compliance Assessment Program (P25 CAP) to improve public safety confidence in purchasing land mobile radio (LMR) equipment built to Project 25 LMR (P25) standards. Especially those P25 standards related to improving interoperability between different manufacturer's radio systems. The NIST/DHS P25 CAP is the system that will improve the conformance, performance and interoperability of LMR used by public safety personnel. The P25 CAP is a voluntary system that provides a mechanism for the recognition of testing laboratories based on internationally accepted standards. It identifies competent laboratories through assessments by trained Laboratory Assessment Teams and promotes the acceptance of compliant test results from these laboratories. Information collected through this process is to establish the suitability of applying laboratories, confirm equipment as meeting P25 standards, and gather basic business information.

II. Method of Collection

The application will be available on NIST/Office of Law Enforcement Standards Web site (http://www.eeel.nis.gov/oles/public_safety.html) in Adobe PDF format. The form can be completed on-line or by hand and submitted via facsimile, e-mail or mail to the designated official listed on the application.

III. Data

OMB Control Number: None.

Form Number: None.

Type of Review: Regular submission.

Affected Public: Business or other for-profit organizations; not-for-profit institutions; federal government; and state, local or tribal government.

Estimated Number of Respondents: 20.

Estimated Time per Response: 1 hour.

Estimated Total Annual Burden Hours: 20.

Estimated Total Annual Cost to Public: $100.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 27, 2008.
Gwellnar Banks,
Management Analyst, Office of the Chief Information Officer.

[FR Doc. E8-6684 Filed 4-1-08; 8:45 am]

BILLING CODE 3510-13-P